DEPARTMENT OF HEALTH AND HUMAN SERVICES

Centers for Medicare & Medicaid Services

[CMS-3424-CN]

Medicare and Medicaid Programs: Approval of Application From Det Norske Veritas for Continued Hospital Accreditation Program; Correction

AGENCY: Centers for Medicare & Medicaid Services (CMS), HHS.

ACTION: Final notice; correction.

SUMMARY: This document corrects a technical error that appeared in the final notice published in the Federal Register on September 6, 2022, entitled “Approval of Application From Det Norske Veritas for Continued Hospital Accreditation Program.”

Effective date: This correction is effective October 3, 2022.

Applicability date: The decision announced in the final notice is effective through September 26, 2026.

FOR FURTHER INFORMATION CONTACT: Joy Webb, (410) 786-1667 or Lillian Williams, (410) 786-8636.

SUPPLEMENTARY INFORMATION:

I. Background

In FR Doc. 2022-19099 of September 6, 2022 (87 FR 54510), there was a technical error that is identified and corrected in this correcting document. The provision in this correction document is effective as if it had been included in the document published September 6, 2022. Accordingly, the correction is effective through September 26, 2026.

II. Summary of Errors

On page 54512, we inadvertently listed the accrediting organization as “TJC”. Therefore, we are replacing “TJC's” with “DNV's”.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

We believe that this final notice correction does not constitute a rule that would be subject to the notice and comment requirements. This document corrects a technical and typographical error in the final notice. This final notice correction is intended to ensure that the information in the final notice is accurate.

We find that there is good cause to waive such requirements as unnecessary, as we are not altering our decision to approve the application by DNV for its continued hospital accrediting program, but rather, we are simply making a technical correction. This final notice correction is intended solely to ensure that the final notice accurately reflects the correct information.

IV. Correction of Errors

In FR Doc. 2022-19099 of September 6, 2022 (87 FR 54510), make the following correction:

1. On page 54512, in the first column; in the first partial paragraph, line 4, correct “TJC's” to read “DNV's”.

The Director, Office of Strategic Operations and Regulatory Affairs of the Centers for Medicare & Medicaid Services (CMS), Kathleen Cantwell, having reviewed and approved this document on September 20, 2022, authorizes Lynette Wilson, who is the Federal Register Liaison, to electronically sign this document for purposes of publication in the Federal Register.

Dated: September 27, 2022.
Lynette Wilson,
Federal Register Liaison, Centers for Medicare & Medicaid Services.

[FR Doc. 2022-21344 Filed 9-28-22; 4:15 pm]

BILLING CODE 4120-01-P